FEDERAL MINE SAFETY AND HEALTH REVIEW COMMISSION

29 CFR Parts 2700, 2701, 2702, 2704, 2705, 2706

Commission Address Change

AGENCY: Federal Mine Safety and Health Review Commission (FMSHRC).

ACTION: Final rule.

SUMMARY: The Federal Mine Safety and Health Review Commission is relocating its Headquarters office and is amending its regulations to inform the public of the address change.

DATES: This final rule will take effect on August 27, 2012.

ADDRESSES: This final rule is available on FMSHRC's Web site, http://www.fmshrc.gov.

FOR FURTHER INFORMATION CONTACT: Sarah Stewart, Deputy General Counsel, Office of the General Counsel, Federal Mine Safety and Health Review Commission, at (202) 434-9935 or sstewart@fmshrc.gov.

SUPPLEMENTARY INFORMATION:

A. Background

On August 24, 2012, FMSHRC will move its Headquarters office from 601 New Jersey Avenue NW., Suite 9500, Washington, DC 20001 to 1331 Pennsylvania Avenue NW., Suite 520N, Washington, DC 20004-1710.

B. Notice and Public Procedure

Because this amendment deals with agency management and procedures, the notice and comment provisions of the Administrative Procedure Act do not apply pursuant to 5 U.S.C. 553(a)(2) and (b)(3)(A).

Good cause exists to dispense with the usual 30-day delay in the effective date because the amendments are of a minor and administrative nature dealing with only a change in address.

The Commission is an independent regulatory agency and, as such, is not subject to the requirements of E.O. 12866, E.O. 13132, or the Unfunded Mandates Reform Act, 2 U.S.C. 1501 et seq.

The Commission has determined that this rulemaking is exempt from the requirements of the Regulatory Flexibility Act (5 U.S.C. 601 et seq.) because a general notice of proposed rulemaking is not required under 5 U.S.C. 553(b).

This rule does not contain a new or amended information collection requirement subject to the Paperwork Reduction Act (44 U.S.C. 3501 et seq.).

The Commission has determined that the Congressional Review Act, 5 U.S.C. 801, is not applicable here because, pursuant to 5 U.S.C. 804(3)(C), this rule “does not substantially affect the rights or obligations of non-agency parties.”

List of Subjects

29 CFR Part 2700

Administrative practice and procedure, Mine safety and health, Penalties, Whistleblowing.

29 CFR Part 2701

Sunshine Act.

29 CFR Part 2702

Freedom of information.

29 CFR Part 2704

Claims, Equal access to justice, Lawyers.

29 CFR Part 2705

Privacy.

29 CFR Part 2706

Administrative practice and procedure, Civil rights, Equal employment opportunity, Federal buildings and facilities, Individuals with disabilities.

Accordingly, Chapter XXVII of Title 29 of the Code of Federal Regulations is amended as follows:

PART 2700—PROCEDURAL RULES

1. The authority citation for part 2700 continues to read as follows:

Authority: 30 U.S.C. 815, 820, 823, and 876.

§ 2700.1 [Amended]

2. In § 2700.1(a)(1), remove “601 New Jersey Avenue NW., Suite 9500, Washington, DC 20001” and add in its place “1331 Pennsylvania Avenue NW., Suite 520N, Washington, DC 20004-1710”.

§ 2700.4 [Amended]

3. In § 2700.4(b)(1), remove “601 New Jersey Avenue NW., Suite 9500, Washington, DC 20001” and add in its place “1331 Pennsylvania Avenue NW., Suite 520N, Washington, DC 20004-1710”.

§ 2700.5 [Amended]

4. In § 2700.5:

a. In paragraph (b)(1), remove “601 New Jersey Avenue NW., Suite 9500, Washington, DC 20001” and add in its place “1331 Pennsylvania Avenue NW., Suite 520N, Washington, DC 20004-1710”.

b. In paragraph (i), remove “601 New Jersey Avenue NW., Suite 9500, Washington, DC 20001” and add in its place “1331 Pennsylvania Avenue NW., Suite 520N, Washington, DC 20004-1710”.

§ 2700.82 [Amended]

5. In § 2700.82(d), remove “601 New Jersey Avenue NW., Suite 9500, Washington, DC 20001” and add in its place “1331 Pennsylvania Avenue NW., Suite 520N, Washington, DC 20004-1710”.

PART 2701—GOVERNMENT IN THE SUNSHINE ACT REGULATIONS

6. The authority citation for part 2701 continues to read as follows:

Authority: Sec. 113, Federal Mine Safety and Health Act of 1977, Pub. L. 95-165 (30 U.S.C. 823).

§ 2701.4 [Amended]

7. In § 2701.4, remove “601 New Jersey Avenue NW., Suite 9500, Washington, DC 20001” and add in its place “1331 Pennsylvania Avenue NW., Suite 520N, Washington, DC 20004-1710”.

PART 2702—REGULATIONS IMPLEMENTING THE FREEDOM OF INFORMATION ACT

8. The authority citation for part 2702 continues to read as follows:

Authority: Sec. 113, Federal Mine Safety and Health Act of 1977, Pub. L. 95-165 (30 U.S.C. 801 et seq.); 5 U.S.C. 552; Pub. L. 104-231, October 2, 1996, 110 Stat. 3048.

9. Section 2702.2 is revised to read as follows:

§ 2702.2 Location of headquarters.

The Commission maintains its Headquarters office at 1331 Pennsylvania Avenue NW., Suite 520N, Washington, DC 20004-1710. The locations of other Commission offices may obtained from the Commission's Web site (http://www.fmshrc.gov).

§ 2702.3 [Amended]

10. In § 2702.3(a), remove “601 New Jersey Avenue NW., Suite 9500, Washington, DC 20001-2021” and add in its place “1331 Pennsylvania Avenue NW., Suite 520N, Washington, DC 20004-1710”.

§ 2702.4 [Amended]

11. In § 2702.4(a), remove “601 New Jersey Ave., NW., Suite 9500, Washington, DC” and add in its place “1331 Pennsylvania Avenue NW., Suite 520N, Washington, DC 20004-1710”.

PART 2704—IMPLEMENTATION OF THE EQUAL ACCESS TO JUSTICE ACT IN COMMISSION PROCEEDINGS

12. The authority citation for part 2704 continues to read as follows:

Authority: (5 U.S.C. 504(c)(1); Pub. L. 99-80, 99 Stat. 183; Pub. L. 104-121, 110 Stat. 862.

§ 2704.201 [Amended]

13. In § 2704.201(a), remove “601 New Jersey Avenue NW., Suite 9500, Washington, DC 20001” and add in its place “1331 Pennsylvania Avenue NW., Suite 520N, Washington, DC 20004-1710”.

§ 2704.308 [Amended]

14. In § 2704.308(b), remove “601 New Jersey Avenue NW., Suite 9500, Washington, DC 20001” and add in its place “1331 Pennsylvania Avenue NW., Suite 520N, Washington, DC 20004-1710”.

PART 2705—PRIVACY ACT IMPLEMENTATION

15. The authority citation for part 2705 continues to read as follows:

Authority: 5 U.S.C. 552a; Pub. L. 93-579.

§ 2705.4 [Amended]

16. In § 2705.4, remove “601 New Jersey Avenue NW., Suite 9500, Washington, DC 20001” and add in its place “1331 Pennsylvania Avenue NW., Suite 520N, Washington, DC 20004-1710”.

§ 2705.8 [Amended]

17. In § 2705.8, remove “601 New Jersey Avenue NW., Suite 9500, Washington, DC 20001” and add in its place “1331 Pennsylvania Avenue NW., Suite 520N, Washington, DC 20004-1710”.

PART 2706—ENFORCEMENT OF NONDISCRIMINATION ON THE BASIS OF HANDICAP IN PROGRAMS OR ACTIVITIES CONDUCTED BY THE FEDERAL MINE SAFETY AND HEALTH REVIEW COMMISSION

18. The authority citation for part 2706 continues to read as follows:

Authority: 29 U.S.C. 794.

§ 2706.170 [Amended]

19. In § 2706.170(c), remove “601 New Jersey Avenue NW., Suite 9500, Washington, DC 20001” and add in its place “1331 Pennsylvania Avenue NW., Suite 520N, Washington, DC 20004-1710”.

Dated: August 7, 2012.
Mary Lu Jordan,
Chairman, Federal Mine Safety and Health Review Commission.

[FR Doc. 2012-19828 Filed 8-13-12; 8:45 am]

BILLING CODE 6735-01-P